DEPARTMENT OF COMMERCE

Foreign-Trade Zones Board

[Docket 10-2002]

Foreign-Trade Zone 36—Galveston, TX; Application for Subzone; Deepsea Flexibles, Inc., (Flexible Pipeline Manufacturing), Galveston, TX

An application has been submitted to the Foreign-Trade Zones Board (the Board) by the Port of Galveston, grantee of FTZ 36, requesting special-purpose subzone status for the manufacturing and warehousing facilities of Deepsea Flexibles, Inc. (Deepflex), located in Galveston, Texas. The application was submitted pursuant to the provisions of the Foreign-Trade Zones Act, as amended (19 U.S.C. 81a-81u), and the regulations of the Board (15 CFR part 400). It was formally filed on February 6, 2002.

The Deepflex facility (1.5 acres, 31 employees), is located at 3306 Wharf Road, Galveston, Texas (Galveston County). The facility is used for the manufacturing and warehousing of flexible pipelines. The only component sourced from abroad (representing about 10% of all parts consumed in manufacturing) is poly para-phenylene terephthalamide (PPD-T aramid fiber) (HTS 5402.10.3050, duty rate 9%). The company is requesting authority to use zone procedures only for product that will be exported. The aramid fiber used on any finished product sold for domestic consumption will be entered for consumption and duty paid prior to manufacturing in the zone.

FTZ procedures would exempt Deepflex from Customs duty payments on the aramid fiber used in export production. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW, Washington, DC 20005; or

2. Submissions Via the U.S. Postal Service: Foreign-Trade-Zones Board, U.S. Department of Commerce, FCB—Suite 4100W, 1401 Constitution Ave. NW, Washington, DC 20230. The closing period for their receipt is April 16, 2002. Rebuttal comments in response to material submitted during the foregoing period may be submitted during the subsequent 15-day period (to May 1, 2002).

A copy of the application and accompanying exhibits will be available for public inspection at the Office of the Foreign-Trade Zones Board's Executive Secretary at the first address listed above, and at the U.S. Department of Commerce Export Assistance Center, 500 Dallas, Suite 1160, Houston, TX 77002.

Dated: February 8, 2002.
Dennis Puccinelli,
Executive Secretary.

[FR Doc. 02-3810 Filed 2-14-02; 8:45 am]

BILLING CODE 3510-DS-P